DEPARTMENT OF TRANSPORTATION

Federal Motor Carrier Safety Administration

[Docket No. FMCSA -2003-16405]

Notice of Request for Renewal of a Currently Approved Information Collection: Request for Revocation of Authority Granted

AGENCY: Federal Motor Carrier Safety Administration (FMCSA), DOT.

ACTION: Notice and request for comments.

SUMMARY: The FMCSA is seeking public comments about our intent to request the Office of Management and Budget's (OMB) approval to renew the currently approved information collection identified as “Request for Revocation of Authority Granted.” This information collection notifies the FMCSA of a voluntary request by a motor carrier, freight forwarder, or property broker to amend or revoke its registration of authority granted. The Paperwork Reduction Act requires the publication of this notice.

DATES: Please submit comments by February 2, 2004.

ADDRESSES: Mail or hand deliver comments to the U.S. Department of Transportation, Dockets Management Facility, Room PL-401, 400 Seventh Street, SW., Washington, DC 20590; telefax comments to (202) 493-2251; or submit electronically at http://dmses.dot.gov/submit. Be sure to include the docket number appearing in this notice's heading. All comments received may be examined and copied at the above address from 9 a.m. to 5 p.m., e.t., Monday through Friday, except Federal holidays. Those desiring notification of receipt of comments must include a self-addressed, stamped postcard or you may print the acknowledgment page that appears after submitting comments electronically.

FOR FURTHER INFORMATION CONTACT: Ms. Marian Mills Lee, (202) 385-2423, Office of Enforcement and Compliance, Federal Motor Carrier Safety Administration, Department of Transportation, 400 Seventh St., SW., Washington, DC, 20590. Office hours are from 7:30 a.m. to 5 p.m., e.t., Monday through Friday, except Federal holidays.

SUPPLEMENTARY INFORMATION: Title: Request for Revocation of Authority Granted.

OMB Approval Number: 2126-0018.

Background: Title 49 of the United States Code (U.S.C.) authorizes the Secretary of Transportation (Secretary) to promulgate regulations governing the registration of for-hire motor carriers of regulated commodities (49 U.S.C. 13902), surface transportation freight forwarders (49 U.S.C. 13903), and property brokers (49 U.S.C. 13904). The FMCSA carries out this registration program under authority delegated by the Secretary. Under 49 U.S.C. 13905, each registration is effective from the date specified and remains in effect for such period as the Secretary determines appropriate by regulation. Section 13905(c) grants the Secretary the authority to amend or revoke a registration at the registrant's request. On complaint or on the Secretary's own initiative, the Secretary may also suspend, amend, or revoke any part of the registration of a motor carrier, broker, or freight forwarder for willful failure to comply with the regulations, an order of the Secretary, or a condition of its registration. Form OCE-46 is used by transportation entities to voluntarily apply for revocation of their registration authority in whole or in part. The form requests the registrant's docket number, name and address, and the reasons for the revocation request.

Respondents: Motor carriers, freight forwarders, and brokers.

Average Burden per Response: 15 minutes.

Estimated Total Annual Burden: 250 hours (1,000 motor carriers × 15 minutes/60 minutes).

Public Comments Invited: You are asked to comment on any aspect of this information collection, including: (1) The necessity and usefulness of the information collection for the FMCSA to meet its goal in reducing truck crashes; (2) the accuracy of the estimated burdens; (3) ways to enhance the quality, usefulness, and clarity of the collected information; and (4) ways to minimize the collection burden without reducing the quality of the collected information. The agency will summarize and/or include your comments in the request for OMB's clearance of this information collection.

Electronic Access and Filing: You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the DMS web site.

You may download an electronic copy of this document by using a computer, modem and suitable communications software from the Government Printing Office's Electronic Bulletin Board Service at (202) 512-1661. Internet users may reach the Office of the Federal Register's home page at http://www.nara.gov/fedreg and the Government Printing Office's web page at: http://www.access.gpo.gov/nara.

Authority: 49 U.S.C. 13902, 13903, 13904 and 13905; and 49 CFR 1.73.

Issued on: November 26, 2003.
Warren E. Hoemann,
Deputy Administrator.

[FR Doc. 03-30105 Filed 12-2-03; 8:45 am]

BILLING CODE 4910-EX-P